DEPARTMENT OF LABOR

Employment and Training Administration

[TA-W-55,023]

X-L Grinding & Tool, Inc., Alpena, Michigan; Notice of Termination of Investigation

Pursuant to section 221 of the Trade Act of 1974, as amended, an investigation was initiated on June 3, 2004, in response to a petition filed by a company official on behalf of workers at X-L Grinding & Tool, Inc., Alpena, Michigan.

The petition regarding the investigation has been deemed invalid. In order to establish a valid worker group, there must be at least three full-time workers employed at some point during the period under investigation. Workers of the group subject to this investigation did not meet the threshold of employment. Consequently the investigation has been terminated.

Signed at Washington, DC, this 18th day of June, 2004.
Richard Church,
Certifying Officer, Division of Trade Adjustment Assistance.

[FR Doc. 04-15317 Filed 7-6-04; 8:45 am]

BILLING CODE 4510-30-P